DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following inventions are available for licensing: Navy Case No. 98,709: ATTITUDE ESTIMATION USING GROUND IMAGERY//Navy Case No. 98,801: APPARATUS AND METHOD FOR GRAZING ANGLE INDEPENDENT SIGNAL DETECTION//Navy Case No. 98,946: APPARATUS AND METHOD FOR COMPENSATING IMAGES FOR DIFFERENCES IN ASPECT//Navy Case No. 98,947: SYSTEM AND METHOD FOR SPATIALLY INVARIANT SIGNAL DETECTION//Navy Case No. 98,984: CORRELATION IMAGE DETECTOR//Navy Case No. 99,033: HOLOGRAPHIC MAP//Navy Case No. 99,067: HOLOGRAPHIC NAVIGATION//Navy Case No. 99,413: COHERENT IMAGE CORRELATION//Navy Case No. 100,287: FACEMASK DISPLAY//.

ADDRESSES: Requests for copies of the patents cited should be directed to Office of Counsel, Naval Surface Warfare Center Panama City Division, 110 Vernon Ave., Panama City, FL 32407-7001.

FOR FURTHER INFORMATION CONTACT: Mr. James Shepherd, Patent Counsel, Naval Surface Warfare Center Panama City Division, 110 Vernon Ave., Panama City, FL 32407-7001, telephone 850-234-4646.

Authority: 35 U.S.C. 207, 37 CFR part 404.

Dated: April 5, 2011.
D. J. Werner,
Lieutenant Commander, Office of the Judge Advocate General, U.S. Navy, Federal Register Liaison Officer.

[FR Doc. 2011-8665 Filed 4-11-11; 8:45 am]

BILLING CODE 3810-FF-P